DEPARTMENT OF AGRICULTURE

Animal and Plant Health Inspection Service

[Docket No. APHIS-2008-0048]

Notice of Request for Approval of an Information Collection; Permit for Reshipment of Swine From Slaughtering Facilities

AGENCY: Animal and Plant Health Inspection Service, USDA.

ACTION: New information collection; comment request.

SUMMARY: In accordance with the Paperwork Reduction Act of 1995, this notice announces the Animal and Plant Health Inspection Service's intention to request approval of an information collection activity for reshipment of swine associated with regulations for livestock removed from slaughtering facilities.

DATES: We will consider all comments that we receive on or before July 22, 2008.

ADDRESSES: You may submit comments by either of the following methods:

Federal eRulemaking Portal: Go to http://www.regulations.gov/fdmspublic/component/main?main=DocketDetail&d=APHIS-2008-0048 to submit or view comments and to view supporting and related materials available electronically.

Postal Mail/Commercial Delivery: Please send two copies of your comment to Docket No. APHIS-2008-0048, Regulatory Analysis and Development, PPD, APHIS, Station 3A-03.8, 4700 River Road Unit 118, Riverdale, MD 20737-1238. Please state that your comment refers to Docket No. APHIS-2008-0048

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on reshipment of swine associated with regulations for livestock removed from slaughtering facilities, contact Dr. David Pyburn, Senior Staff Veterinarian, Aquaculture, Swine, Equine and Poultry Programs, NCAHP, VS, APHIS, 210 Walnut Street Room 891, Des Moines, IA 50309; (515) 284-4122. For copies of more detailed information on the information collection, contact Mrs. Celeste Sickles, APHIS* Information Collection Coordinator, at (301) 851-2908.

SUPPLEMENTARY INFORMATION: Title: Permit for Reshipment of Swine From Slaughtering Facilities.

OMB Number: 0579-xxxx.

Type of Request: Approval of a new information collection.

Abstract: Under the Animal Health Protection Act (7 U.S.C. 8301 et. seq.), the Animal and Plant Health Inspection Service (APHIS), U.S. Department of Agriculture, is authorized, among other things, to prevent the interstate spread of livestock diseases and to eradicate such diseases from the United States when feasible. In connection with this mission, APHIS' Veterinary Services (VS) program conducts animal disease surveillance programs, including diagnostic testing.

The regulations in 9 CFR, Subchapter C, Part 71, “General Provisions,” provide for the collection of blood and tissue samples from livestock (horses, cattle, bison, captive cervids, sheep and goats, swine, and other farmed animals) and poultry at slaughtering or rendering establishments. Persons moving livestock and poultry interstate for slaughter or rendering may only move the animals to slaughtering or rendering establishments that have been listed by the Administrator of APHIS.

Livestock or poultry may not be removed from the premises of a slaughtering or rendering establishment except under a permit issued by APHIS and in accordance with applicable regulations of USDA's Food Safety and Inspection Service. Swine may be moved from a slaughtering establishment only with a permit that restricts such movement to either a holding facility or another slaughtering establishment and prohibits their return to the farm for feeding or breeding purposes, which could expose other farm animals to diseases that may be carried by animals intended for slaughter. Any person wishing to transport slaughter swine under a permit for reshipment must submit an application to APHIS' Veterinary Services program for their review and approval.

We are asking the Office of Management and Budget (OMB) to approve our use of this information collection activity for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.16666 hours per response.

Respondents: Purchasers of market swine from slaughter facilities designated for shipment to alternate holding or slaughtering facilities.

Estimated annual number of respondents : 60.

Estimated annual number of responses per respondent: 1.

Estimated annual number of responses: 60.

Estimated total annual burden on respondents: 10 hours. (Due to averaging, the total annual burden hours may not equal the product of the annual number of responses multiplied by the reporting burden per response.)

All responses to this notice will be summarized and included in the request for OMB approval. All comments will also become a matter of public record.

Done in Washington, DC, this 14th day of May 2008 .
Kevin Shea,
Acting Administrator, Animal and Plant Health Inspection Service.

[FR Doc. E8-11650 Filed 5-22-08; 8:45 am]

BILLING CODE 3410-34-P